Title 3—

The President

Proclamation 7964 of November 21, 2005

National Family Week, 2005

By the President of the United States of America

A Proclamation

Families give our society direction and purpose. During National Family Week, we celebrate the many contributions families make to our country.

Throughout America's history, families have been the foundation of our society and a source of stability and love for every generation. Strong families teach children to live moral lives and help us pass down the values that define a caring society. By nurturing a child's personal development and providing a safe environment for growth, families prepare our Nation's youth to realize the promise of America. Family is one of the three cornerstones of the Helping America's Youth initiative, led by First Lady Laura Bush. We are working with families, schools, and communities to help children make right choices and build healthy, successful lives. Through USA Freedom Corps, my Administration is also providing opportunities for families to volunteer together and make a positive difference in their communities.

At this crucial hour in the history of freedom, our Nation is grateful for the sacrifice of our military families who love and support the men and women of our Armed Forces. My Administration is committed to providing a better quality of life for our military families and helping them plan for the future. During National Family Week and throughout the year, Americans stand solidly behind the men and women of our Armed Forces and join all military families as they pray for the safety and strength of their sons and daughters, husbands and wives, and fathers and mothers.

NOW, THEREFORE, I, GEORGE W. BUSH, President of the United States of America, by virtue of the authority vested in me by the Constitution and laws of the United States, do hereby proclaim November 20 through November 26, 2005, as National Family Week. I invite the States, communities, and all the people of the United States to join together in observing this week with appropriate ceremonies and activities to honor our Nation's families.

IN WITNESS WHEREOF, I have hereunto set my hand this twenty-first day of November, in the year of our Lord two thousand five, and of the Independence of the United States of America the two hundred and thirtieth.

B

[FR Doc. 05-23332

Filed 11-22-05; 11:59 am]

Billing code 3195-01-P